DEPARTMENT OF THE INTERIOR

Office of Surface Mining Reclamation and Enforcement

Notice of Proposed Information Collection for 1029-0051 and 1029-0120

AGENCY: Office of Surface Mining Reclamation and Enforcement.

ACTION: Notice and request for comments.

SUMMARY: In compliance with the Paperwork Reduction Act of 1995, the Office of Surface Mining Reclamation and Enforcement (OSM) is announcing its intention to request approval for the collection of information for two forms: technical training program nominations for non-Federal personnel form (OSM 105) and the travel and per diem form (OSM 140); and for 30 CFR Part 840, State Regulatory Authority: Inspection and Enforcement. The collections described below have been forwarded to the Office of Management and Budget (OMB) for review and comment. The information collection requests describe the nature of the information collections and the expected burden and cost.

DATES: OMB has up to 60 days to approve or disapprove the information collection requests but may respond after 30 days. Therefore, public comments should be submitted to OMB by February 26, 2007 in order to be assured of consideration.

ADDRESSES: Submit comments to the Office of Information and Regulatory Affairs, Office of Management and Budget, Attention: Department of the Interior Desk Officer, by telefax at (202) 395-6566 or via e-mail to OIRA_Docket@omb.eop.gov. Also, please send a copy of your comments to John A. Trelease, Office of Surface Mining Reclamation and Enforcement, 1951 Constitution Ave., NW., Room 202-SIB, Washington, DC 20240, or electronically to jtrelease@osmre.gov.

FOR FURTHER INFORMATION CONTACT: To request a copy of the information collection requests and explanatory information, contact John A. Trelease at (202) 208-2783, or electronically at jtrelease@osmre.gov. You may also review the information collection requests online at http://www.reginfo.gov. Follow the instructions to review Department of the Interior collections under review by OMB.

SUPPLEMENTARY INFORMATION: The Office of Management and Budget (OMB) regulations at 5 CFR Part 1320, which implement provisions of the Paperwork Reduction Act of 1995 (Pub. L. 104-13), require that interested members of the public and affected agencies have an opportunity to comment on information collection and recordkeeping activities [see 5 CFR 1320.8(d)]. OSM has submitted requests to OMB to approve the collection of information for: (1) 30 CFR Part 840, State Regulatory Authority: Inspection and Enforcement (OMB control number 1029-0051); and (2) OSM Technical Training Program's Nominations for Non-Federal Personnel Form (OSM 105) and Travel and Per Diem Form (OSM 140) (OMB control number 1029-0120). OSM is requesting a 3-year term of approval for this information collection activity.

An agency may not conduct or sponsor, and a person is not required to respond to, a collection of information unless it displays a currently valid OMB control number. The OMB control numbers for these collections of information are found in 840.10 for the State inspection and enforcement procedures, and are located on Training forms OSM 105 and OSM 140.

As required under 5 CFR 1320.8(d), a Federal Register notice soliciting comments on these collections of information was published on September 11, 2006 (71 FR 53476). No comments were received. This notice provides the public with an additional 30 days in which to comment on the following information collection activities:

Title: 30 CFR Part 840, State Regulatory Authority: Inspection and Enforcement.

OMB Control Number: 1029-0051.

Abstract: This provision requires the regulatory authority to conduct periodic inspections of coal mining activities, and prepare and maintain inspection reports for public review. This information is necessary to meet the requirements of the Surface Mining Control and Reclamation Act of 1977 and its public participation provisions. Public review assures that the State is meeting the requirements for the Act and approved State regulatory program.

Bureau Form Number: None.

Frequency of Collection: Once, monthly, quarterly, and annually.

Description of Respondents: State Regulatory Authorities.

Total Annual Responses: 79,510.

Total Annual Burden Hours: 530,404.

Total Non-wage Costs: $960.

Title: Technical Training Program Course Nomination and Payment for Travel and Per Diem Forms.

OMB Control Number: 1029-0120.

Summary: The information is used to identify and evaluate the training courses requested by students to enhance their job performance, to calculate the number of classes and instructors needed to complete OSM's technical training mission, and to estimate costs to the training program.

Bureau Form Numbers: OSM 105, OSM 140

Frequency of Collection: Once.

Description of Respondents: State and Tribal regulatory and reclamation employees and industry personnel.

Total Annual Responses: 2,400.

Total Annual Burden Hours: 200 hours.

Send comments on the need for the collection of information for the performance of the functions of the agency; the accuracy of the agency's burden estimates; ways to enhance the quality, utility and clarity of the information collection; and ways to minimize the information collection burden on respondents, such as use of automated means of collection of the information, to the following address. Please refer to the appropriate OMB control numbers in all correspondence.

Dated: November 14, 2006.
John R. Craynon,
Chief, Division of Regulatory Support.

[FR Doc. 07-321 Filed 1-24-07; 8:45 am]

BILLING CODE 4310-05-M